DEPARTMENT OF DEFENSE

Department of the Army; Corps of Engineers

33 CFR Parts 325 and 332

ENVIRONMENTAL PROTECTION AGENCY

40 CFR Part 230

[EPA-HQ-OW-2006-0020; FRL-8173-4]

RIN 0710-AA55

Compensatory Mitigation for Losses of Aquatic Resources

AGENCIES: U.S. Army Corps of Engineers, DoD; and Environmental Protection Agency.

ACTION: Proposed rule; extension of comment period.

SUMMARY: On March 28, 2006, the U.S. Army Corps of Engineers (the Corps) and the Environmental Protection Agency (EPA) published a proposed rule to revise regulations governing compensatory mitigation for activities authorized by permits issued by the Department of the Army. The Corps and EPA announce the extension of the public comment period for this proposed rule until June 30, 2006. The 30-day extension of the comment period is a result of requests from a number of entities to allow more time to comment on the proposed rule. Comments previously submitted need not be resubmitted, as they have already been incorporated into the public record and will be fully considered in the final rule.

DATES: Public comments are now due by June 30, 2006.

ADDRESSES: You may submit comments, identified by docket number EPA-HQ-OW-2006-0020 and/or RIN 0710-AA55, by any of the following methods:

• Federal eRulemaking Portal (recommended method of comment submission): http://www.regulations.gov. Follow the on-line instructions for submitting comments.

• E-mail: ow-docket@epamail.epa.gov. Include the docket number, EPA-HQ-OW-2006-0020, and/or the RIN number, 0710-AA55, in the subject line of the message.

• Mail: USEPA Docket Center, Attention Docket Number EPA-HQ-OW-2006-0020, 1200 Pennsylvania Ave., NW., Washington, DC 20460.

• Hand Delivery: USEPA Docket Center, Room B102, EPA West, Attention: Docket Number EPA-HQ-OW-2006-0020, 1301 Constitution Ave., NW., Washington, DC 20004. Such deliveries are only accepted during the Docket's normal hours of operation, and special arrangements should be made for deliveries of boxed information.

Instructions: Instructions for submitting comments are provided in the proposed rule published on March 28, 2006 (71 FR 15520). Consideration will be given to all comments received by June 30, 2006.

FOR FURTHER INFORMATION CONTACT: Mr. David Olson at 202-761-4922 or by e-mail at david.b.olson@usace.army.mil, or Mr. Palmer Hough at 202-566-8323 or by e-mail at mitigationrule@epa.gov. Information can also be found at the EPA compensatory mitigation Web page at: http://www.epa.gov/wetlandsmitigation.

SUPPLEMENTARY INFORMATION: In the March 28, 2006, issue of the Federal Register (71 FR 15520), the Corps and EPA published a proposed rule revising regulations governing compensatory mitigation for activities authorized by permits issued by the Department of the Army. The proposed regulations are intended to establish performance standards and criteria for the use of permittee-responsible compensatory mitigation and mitigation banks, and to improve the quality and success of compensatory mitigation projects for activities authorized by Department of the Army permits. The proposed regulations are also intended to account for regional variations in aquatic resource types, functions, and values, and apply equivalent standards to each type of compensatory mitigation to the maximum extent practicable. The proposed rule includes a watershed approach to improve the quality and success of compensatory mitigation projects in replacing losses of aquatic resource functions, services, and values resulting from activities authorized by Department of the Army permits.

Several entities have requested an extension of the comment period for the proposed rule. The Corps and EPA find that a 30-day extension of the comment period for this proposed rule is warranted. Therefore, the comment period for this proposed rule is extended until June 30, 2006.

Dated: May 16, 2006.
John Paul Woodley, Jr.,
Assistant Secretary of the Army (Civil Works), Department of the Army.
Dated: May 15, 2006.
Benjamin H. Grumbles,
Assistant Administrator, Office of Water, U.S. Environmental Protection Agency.

[FR Doc. E6-7837 Filed 5-22-06; 8:45 am]

BILLING CODE 6560-50-P